ENVIRONMENTAL PROTECTION AGENCY

[FRL OP-OFA-040]

Environmental Impact Statements; Notice of Availability

Responsible Agency: Office of Federal Activities, General Information 202-564-5632 or https://www.epa.gov/nepa.

Weekly receipt of Environmental Impact Statements (EIS)

Filed October 7, 2022 10 a.m. EST Through October 17, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220150, Final, NMFS, Other, Saltonstall-Kennedy Research and Development Program Programmatic Environmental Impact Statement, Review Period Ends: 11/21/2022, Contact: Clifford Cosgrove 301-427-8736.

EIS No. 20220151, Draft, FERC, MN, Northern Lights 2023 Expansion Project, Comment Period Ends: 12/05/2022, Contact: Office of External Affairs 866-208-3372.

Amended Notice

EIS No. 20220147, Draft, USN, DC, Proposed Land Acquisition at Washington Navy Yard, Washington, DC, Comment Period Ends: 12/02/2022, Contact: Nik Tompkins-Flagg 202-685-8437. Revision to FR Notice Published 10/14/2022; Extending the Comment Period from 11/28/2022 to 12/02/2022.

Dated: October 17, 2022.
Cindy S. Barger,
Director, NEPA Compliance Division, Office of Federal Activities.

[FR Doc. 2022-22885 Filed 10-20-22; 8:45 am]

BILLING CODE 6560-50-P